DEPARTMENT OF ENERGY

Federal Energy Regulatory Commission

[Project No. 6942-003]

Joseph Weinert, Holly Parrish and Kevin Bezner, Notice of Transfer of Exemption

1. By letter filed September 15, 2015, Joseph Weinert informed the Commission that the exemption from licensing for the Lower Bear Creek Power Plant Project, FERC No. 6942, originally issued May 9, 1983,¹ has been transferred to Holly Parrish and Kevin Bezner. The project is located on the Little Bear Creek in Placer County, California. The transfer of an exemption does not require Commission approval.

¹ 23 FERC ¶ 62,182, Notice of Exemption From Licensing (1982).

2. Holly Parrish and Kevin Bezner are now the exemptees of the Lower Bear Creek Power Plant Project, FERC No. 6942. All correspondence should be forwarded to: Holly Parrish and Kevin Bezner, 4239 Fairway View Drive, Loomis, CA 95650.

Dated: September 24, 2015.
Nathaniel J. Davis, Sr.,
Deputy Secretary.

[FR Doc. 2015-24741 Filed 9-29-15; 8:45 am]

BILLING CODE 6717-01-P